DEPARTMENT OF TRANSPORTATION

Coast Guard

33 CFR Part 165

[CGD13-02-010]

RIN 2115-AA97

Security Zone; Naval Submarine Base Bangor, Puget Sound

AGENCY: Coast Guard, DOT.

ACTION: Temporary final rule.

SUMMARY: The Coast Guard is establishing a security zone on the waters surrounding Naval Submarine Base Bangor. The Commander, Thirteenth Coast Guard District is taking this action to safeguard U.S. Naval Submarine Base Bangor and U.S. Naval submarines from sabotage, other subversive acts, or accidents, and otherwise protect Naval assets vital to national security.

DATES: This rule is effective from 12 p.m. (midnight) PDT on June 21, 2002 to 12 p.m. (midnight) PDT on July 5, 2002.

ADDRESSES: Coast Guard Marine Safety Office Puget Sound maintains the public docket for this rulemaking. Comments and material received from the public, as well as documents indicated in this preamble as being available in the docket, will become part of this docket and will be available for inspection or copying at U.S. Coast Guard Marine Safety Office Puget Sound, 1519 Alaskan Way South, Building 1, Seattle, Washington 98134. Normal office hours are between 8 a.m. and 4 p.m., Monday through Friday, except Federal holidays.

FOR FURTHER INFORMATION CONTACT: LT A. L. Praskovich, c/o Captain of the Port Puget Sound, 1519 Alaskan Way South, Seattle, Washington 98134, at (206) 217-6232.

SUPPLEMENTARY INFORMATION:

Regulatory Information

The Coast Guard is issuing this temporary final rule, effective June 21, 2002, to provide for the security of Naval Submarine Base Bangor.

We did not publish a notice of proposed rulemaking (NPRM) for this regulation. Under 5 U.S.C. 553(b)(B), the Coast Guard finds that good cause exists for not publishing an NPRM. Additionally, under 5 U.S.C. 553(d)(3), the Coast Guard finds that good cause exist for making this rule effective less than 30 days after publication in the Federal Register.

On May 30, 2002, we issued a final rule canceling the fixed security zone around U.S. Naval Submarine Base Bangor and moving security zones around U.S. Naval submarines while underway on Puget Sound, and the Strait of Juan De Fuca, WA and adjoining waters. (67 FR 37687). This fixed security zone was canceled because regulations issued by another Federal agency would become effective at that time to provide adequate security to safeguard U.S. Naval Submarine Base Bangor and U.S. Naval submarines from sabotage, other subversive acts, or accidents, and otherwise protect Naval assets vital to national security. It has come to light that the new regulations that were to go into effect on June 20, 2002, to provide for the security of Naval Submarine Base Bangor will not be in effect until some time after 20 June 2002. Because of this, we are establishing a temporary final rule that will provide for the continued security of Naval Submarine Base Bangor. Publishing an NPRM would be contrary to public interest since immediate action is necessary to ensure the security of Naval assets.

Background and Purpose

The Coast Guard will establish a temporary fixed security zone around Naval Submarine Base Bangor, WA. The Coast Guard determined it was necessary to prevent access to this area in order to safeguard this U.S. Naval base from sabotage, other subversive acts, or accidents, and otherwise protect this U.S. Naval asset vital to national security. Events such as the bombing of the USS Cole highlight the fact that there were hostile entities operating with the intent to harm U.S. national security by attacking or sabotaging Naval assets including those in Puget Sound. The events of September 11, 2001, demonstrated that there were real, credible, and immediate threats to U.S. national security.

The Coast Guard, through this temporary final rule, will assist the U.S. Navy in protecting vital national security assets by establishing a security zone to exclude persons and vessels from the immediate vicinity of U.S. Naval Submarine Base Bangor. Entry into this zone is prohibited unless authorized by the Captain of the Port or his designee. This security zone is patrolled and enforced by Coast Guard and Navy personnel.

Regulatory Evaluation

This rule is not a significant regulatory action under section 3(f) of Executive Order 12866 and does not require an assessment of potential costs and benefits under section 6(a)(3) of that Order. The Office of Management and Budget has not reviewed it under that Order. It is not significant under the regulatory policies and procedures of the Department of Transportation (DOT) (44 FR 11040, February 26, 1979). We expect the economic impact of this temporary final rule to be so minimal that a full Regulatory Evaluation under paragraph 10(e) of the regulatory policies and procedures of DOT is unnecessary. This expectation is based on the fact that the regulated area established by this temporary final rule is of such a small area as to be of no significant economic impact.

Small Entities

Under the Regulatory Flexibility Act (5 U.S.C. 601 et seq.), we considered whether this rule would have a significant economic impact on a substantial number of small entities. “Small entities” include small businesses, not-for-profit organizations that are independently owned and operated and are not dominant in their fields, and governmental jurisdictions with populations of less than 50,000. This temporary final rule will not affect any small entities. Because the impacts of this temporary final rule are expected to be minimal, the Coast Guard certifies under 605(b) of the Regulatory Flexibility Act (5 U.S.C. 601 et seq.) that this temporary final rule will not have a significant economic impact on a substantial number of small entities.

If you believe that your business, organization, or governmental jurisdiction qualifies as a small entity and that this rule would have a significant economic impact on it, please submit a comment (see ADDRESSES) explaining why you believe it qualifies and how and to what degree this temporary final rule would economically affect it.

Assistance for Small Entities

Under section 213(a) of the Small Business Regulatory Enforcement Fairness Act of 1996 (Pub. L. 104-121), we want to assist small entities in understanding this rule so that they can better evaluate its effects on them and participate in the rulemaking. If the temporary final rule would affect your small business, organization, or governmental jurisdiction and you have questions concerning its provisions or options for compliance, please contact the person listed in the (FOR FURTHER INFORMATION CONTACT) section.

Collection of Information

This rule would call for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This temporary final rule would not impose an unfunded mandate.

Taking of Private Property

This temporary final rule would not effect a taking of private property or otherwise have taking implications under E.O. 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This temporary final rule is not an economically significant rule and does not concern an environmental risk to health or risk to safety that may disproportionately affect children.

Indian Tribal Governments

This rule does not have tribal implications under Executive Order 13175, Consultation and Coordination with Indian tribal governments, because it does not have a substantial direct effect on one or more Indian tribes, on the relationship between the federal government and Indian tribes, or on the distribution of power and responsibilities between the federal government and Indian tribes.

Environment

We considered the environmental impact of this rule and concluded that, under figure 2-1, paragraph (34)(g) of Commandant Instruction M16475.lC, this temporary final rule is categorically excluded from further environmental documentation.

A Categorical Exclusion is provided for security zones. A Categorical Exclusion Determination and an Environmental Analysis Checklist were prepared for the identical, previous security zone issued as regulation [CGD13-01-015]. We have determined that nothing has changed since the preparation of this Categorical Exclusion Determination and Environmental Analysis Checklist. Therefore, both remain in effect and valid for this rule. A Categorical Exclusion Determination and an Environmental Analysis Checklist are available in the docket at the location specified under the ADDRESSES portion of this rulemaking.

List of Subjects in 33 CFR Part 165

Harbors, Marine safety, Navigation (water), Reporting and record keeping requirements, Security measures, Waterways.

For the reasons set out in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. Effective June 21, 2002 to July 5, 2002, temporary § 165.T13-007 is added to read as follows:

§ 165.T13-007 Security Zone, Naval Submarine Base Bangor, Puget Sound, Washington.

(a) Naval Submarine Base, Bangor, WA: The following area is a security zone: All waters of Puget Sound, Washington State, enclosed by the following: A line beginning at 47°46′18″ N, 122°42′18″ W; thence to 47°46′32″ N, 122°42′20″ W; thence to 47°46′38″ N, 122°42′52″ W; thence to 47°44′15″ N, 122°44′50″ W; thence to 47°43′53″ N, 122°44′58″ W; thence to 47°43′17″ N, 122°44′49″ W [Datum: NAD 1983].

(b) Exemptions. Vessels that desire access to this zone and are not otherwise exempted as listed below, shall secure permission from the Captain of the Port or his on-scene designated representative(s). Section 165.33 paragraphs (a), (e), and (f) do not apply to the following vessels or individuals on board those vessels:

(i) Public vessels of the United States, including United States Naval vessels.

(ii) Vessels that are performing work pursuant to a contract with the United States Navy that requires their presence in the security zone(s).

(iii) Any other vessels or class of vessels mutually agreed upon in advance by the Captain of the Port and the cognizant Naval Commander. Vessels operating in the security zone(s) under this exemption must have previously obtained a copy of a certificate of exemption permitting their operation in the security zone from the security offices established by the cognizant Naval Base Commander. This written exemption shall state the date(s) on which it is effective and may contain further restrictions on vessel operations within the security zone as have been previously agreed upon by the Captain of the Port and the cognizant Naval Commander. The certificate of exemption shall be maintained on board the exempted vessel so long as such vessel is operating in the security zone.

(c) Regulations. In accordance with the general regulations in §§ 165.30 and 165.33 of this part, no person or vessel may enter the above security zone unless authorized by the Captain of the Port or his designated representatives. Vessels and persons granted authorization to enter the security zone shall obey all lawful orders or directions of the Captain of the Port or his designated representatives. The U.S. Navy and other federal, state, or local agencies may assist the Captain of the Port in the patrol and enforcement of this zone.

Dated: June 20, 2002.
Erroll Brown,
Rear Admiral, U.S. Coast Guard, Commander, Thirteenth Coast Guard District.

[FR Doc. 02-16629 Filed 7-1-02; 8:45 am]

BILLING CODE 4910-15-P